DEPARTMENT OF STATE

22 CFR Part 42

[Public Notice 3504]

Change in Procedures for Payment of Certain Immigrant Visa Fees

AGENCY: Department of State.

ACTION: Interim rule; stay of regulation.

SUMMARY: The Department of State is staying the recent regulation pertaining to a change in procedures for the payment of certain immigrant visa fees, published in the Federal Register of September 8, 2000 (65 FR 54412).

DATES: Effective December 14, 2000, 22 CFR 42.71(b) is stayed until January 1, 2001, and § 42.71(c) is added until January 1, 2001.

FOR FURTHER INFORMATION CONTACT: H. Edward Odom, Chief, Legislation and Regulations Division, Visa Services, Department of State, Washington, DC 20520-0106, (202) 663-1204, e-mail odomhe@state.gov, or fax at (202) 663-3898.

SUPPLEMENTARY INFORMATION: On September 8, 2000, (65 FR 54412-12) the Department published a rule which, among other things, changed the procedure for and the timing of the payment of the application processing fee by immigrant visa applicants at certain consular posts. At the time the rule was sent to the Federal Register it was intended to be effective upon publication. For technical reasons, it could not be implemented as intended on the date published in the Federal Register.

List of Subjects in 22 CFR Part 42

Aliens, Immigrants, Passports and visas.

22 CFR Part 42 is amended as follows:

PART 42—VISAS; DOCUMENTATION OF IMMIGRANTS UNDER THE IMMIGRATION AND NATIONALITY ACT, AS AMENDED

1. The authority citation for Part 42 continues to read:

Authority: 8 U.S.C. 1104.

2. In § 42.71 stay paragraph (b) until January 1, 2001, and add paragraph (c) until that date to read as follows:

§ 42.71 Authority to issue visas; visa fees.

* * * * *

(c) Immigrant visa fees. Fees are prescribed by the Secretary of State for the execution of an application for, and the issuance of, an immigrant visa. The application fee shall be collected prior to the visa interview and execution of the application. The issuance fee shall be collected after completion of the visa interview and prior to issuance of the visa. A fee receipt shall be issued for each fee. A fee collected for the application for or issuance of an immigrant visa is refundable only if the principal officer at a post or the officer in charge of a consular section determines that the visa was issued in error or could not be used as a result of action by the U.S. Government over which the alien had no control and for which the alien was not responsible.

Dated: November 28, 2000.
Maura Harty,
Acting Assistant Secretary for Consular Affairs.

[FR Doc. 00-31741 Filed 12-13-00; 8:45 am]

BILLING CODE 4710-06-P